ENVIRONMENTAL PROTECTION AGENCY

[ER-FRL-9019-1]

Environmental Impact Statements; Notice of Availability

Responsible Agency: Office of Federal Activities, General Information (202) 564-7146 or http://www.epa.gov/compliance/nepa/.

Weekly receipt of Environmental Impact Statements

Filed 01/05/2015 Through 01/09/2015

Pursuant to 40 CFR 1506.9.

Notice

Section 309(a) of the Clean Air Act requires that EPA make public its comments on EISs issued by other Federal agencies. EPA's comment letters on EISs are available at: http://www.epa.gov/compliance/nepa/eisdata.html.

EIS No. 20150001, Final Supplement, NMFS, FL, Amendment 16 to the Fishery Management Plan for the Shrimp Fishery of the Gulf of Mexico, U.S. Waters, Review Period Ends: 02/17/2015, Contact: Susan Gerhart 727-824-5305.

EIS No. 20150002, Final EIS, NPS, TX, Lake Meredith National Recreation Area Off-Road Vehicle Management Plan, Review Period Ends: 02/17/2015, Contact: Robert Maguire 806-857-3151.

EIS No. 20150003, Draft EIS, BLM, WY, Sheep Mountain Uranium Project, Comment Period Ends: 03/02/2015, Contact: Chris Krassin 307-332-8400.

EIS No. 20150004, Draft EIS, FDA, 00, Proposed Rule: Standards for Growing, Harvesting, Packing, and Holding of Produce for Human Consumption, Comment Period Ends: 03/13/2015, Contact: Annette McCarthy 240-402-1057.

EIS No. 20150005, Draft EIS, USFS, CO, Chimney Rock National Monument Management Plan, Comment Period Ends: 03/02/2015, Contact: Sara Brinton 970-264-1532.

EIS No. 20150006, Draft EIS, BR, WA, Kachess Drought Relief Pumping Plant and Keechelus Reservoir-to-Kachess Reservoir Conveyance, Comment Period Ends: 03/10/2015, Contact: Candace McKinley 509-575-5848~ext. 603.

EIS No. 20150007, Draft EIS, BLM, CO, Bull Mountain Unit Master Development Plan, Comment Period Ends: 03/02/2015, Contact: Gina Jones 970-240-5300.

EIS No. 20150008, Final EIS, NMFS, WA, Harvest Specifications and Management Measures for 2015-2016 and Biennial Periods Thereafter, Review Period Ends: 02/17/2015, Contact: Becky Renko 206-526-6110.

EIS No. 20150009, Draft EIS, DOE, 00, PROGRAMMATIC—Engineered High Energy Crop Programs, Comment Period Ends: 03/17/2015, Contact: Jonathan Burbaum 202 287 5453.

EIS No. 20150010, Draft EIS, USFS, UT, Monroe Mountain Aspen Ecosystems Restoration Project, Comment Period Ends: 03/02/2015, Contact: Jason Kling (435) 896-1080.

EIS No. 20150011, Draft EIS, BR, CA, North Valley Regional Recycled Water Program, Comment Period Ends: 03/03/2015, Contact: Benjamin Lawrence (559) 487-5039.

EIS No. 20150012, Draft EIS, USA, KY, PROGRAMMATIC—Training Mission and Mission Support Activities at Fort Campbell, Comment Period Ends: 03/02/2015, Contact: Gene Zirkle 270.798.9854 .

EIS No. 20150013, Final EIS, WAPA, NE., Interconnection of the Grande Prairie Wind Farm, Review Period Ends: 02/17/2015, Contact: Rod O'Sullivan 720-962-7260.

EIS No. 20150014, Draft EIS, USFS, CO, Breckenridge Ski Resort, Multi-Season Recreation Projects, Comment Period Ends: 03/02/2015, Contact: Roger Poirier 970-945-3245.

Amended Notices

EIS No. 20140300, Draft EIS, BLM, NV, Las Vegas and Pahrump Field Offices Draft Resource Management Plan, Comment Period Ends: 02/06/2015, Contact: Lee Kirk 702-515-5026. Revision to FR Notice Published 10/10/2014; Extending Comment Period from 01/07/2015 to 02/06/2015.

EIS No. 20140333, Draft EIS, BR, CA, Central Valley Project Municipal and Industrial Water Shortage Policy, Comment Period Ends: 03/13/2015, Contact: Tim Rust 916-978-5516. Revision to FR Notice Published 11/28/2014; Extending Comment Period from 01/12/2015 to 03/13/2015.

Dated: January 13, 2015.
Cliff Rader,
Director, NEPA Compliance Division, Office of Federal Activities.

[FR Doc. 2015-00633 Filed 1-15-15; 8:45 am]

BILLING CODE 6560-50-P